DEPARTMENT OF COMMERCE

International Trade Administration

Notice of Discontinuation of Policy To Issue Liquidation Instructions After 15 Days in Applicable Antidumping and Countervailing Duty Administrative Proceedings

AGENCY: Enforcement and Compliance, International Trade Administration, Department of Commerce.

ACTION: Notice; discontinuance.

SUMMARY: The U.S. Department of Commerce (Commerce) is announcing that, effective immediately upon publication of this notice, it is discontinuing its policy to issue liquidation instructions in certain segments of antidumping duty (AD) and countervailing duty (CVD) administrative proceedings to U.S. Customs and Border Protection (CBP) 15 days after publication or mailing, whichever applies, of final administrative determinations where no statutory injunction was requested, which was announced on its website August 14, 2002, revised in November 2006, and again modified by an announcement on its website November 9, 2010. Such timeframes for AD/CVD administrative proceedings involving subject merchandise from Canada and Mexico were not affected by the 15-day policy.

DATES: Applicable January 15, 2021.

FOR FURTHER INFORMATION CONTACT: Wendy Frankel, Director, Customs Liaison Unit, Enforcement & Compliance, Department of Commerce, (202) 482-5849, or Elisabeth Urfer, Associate Director, Customs Liaison Unit, Enforcement & Compliance, Department of Commerce (202) 482-0414.

SUPPLEMENTARY INFORMATION: In 2002, Commerce instituted its 15-day policy in response to International Trading Co. v. United States, 281 F.3d 1268 (Fed. Cir. 2002), in which the six-month deemed liquidation deadline in 19 U.S.C. 1504(d) was made applicable to administrative reviews of AD/CVD orders. The policy, as modified, has required parties to seek consent from the government for statutory injunctions under section 516A(c)(2) of the Tariff Act of 1930, as amended (the Act), no later than 15 days after publication or mailing of applicable final administrative determinations by Commerce, or Commerce will issue liquidation instructions to CBP. The policy has provided CBP with over five months to ensure liquidation at the assessed rate, lessening the risk that entries will be deemed liquidated. Since 2002, parties challenging Commerce's final determinations in AD/CVD administrative proceedings conducted under applicable provisions of Title VII of the Act at the U.S. Court of International Trade who missed the 15-day deadline have run the risk that some or all of their entries would liquidate before receiving any court-ordered statutory injunction.

Notwithstanding any language in preliminary determinations in applicable AD/CVD administrative proceedings indicating Commerce's intent to apply the 15-day policy in corresponding final determinations that have not yet been issued, Commerce is discontinuing this policy immediately upon publication of this notice to effectively administer and enforce the AD/CVD laws. Because the 15-day policy has not applied to AD/CVD administrative proceedings involving subject merchandise from Canada and Mexico, this notice has no effect on AD/CVD proceedings involving subject merchandise from those countries.

Dated: January 11, 2021.
Jeffrey I. Kessler,
Assistant Secretary for Enforcement and Compliance.

[FR Doc. 2021-00884 Filed 1-14-21; 8:45 am]

BILLING CODE 3510-DS-P